DEPARTMENT OF LABOR

Employment and Training Administration

Agency Information Collection Activities: Revision and Extension of a Currently Approved Information Collection; Comment Request

ACTION: 60-day notice of information collection under review: Application for Permanent Employment Certification; Form ETA-9089, OMB Control No. 1205-0451.

SUMMARY: The Department of Labor, as part of its continuing effort to reduce paperwork and respondent burden, is conducting a pre-clearance consultation to provide the general public and Federal agencies with an opportunity to comment on proposed and/or continuing collections of information in accordance with the Paperwork Reduction Act of 1995 (PRA95) [44 U.S.C. 3506(c)(2)(A)]. This consultation is undertaken to ensure that requested data can be provided in the desired format, reporting burden (time and financial resources) is minimized, collection instruments are clearly understood, and the impact of collection requirements on respondents can be properly assessed. Currently, the Employment and Training Administration is soliciting comments concerning Form ETA 9089 Application for Permanent Employment Certification. A copy of the proposed information collection request (ICR) can be obtained by contacting the office listed below in the addressee section of this notice or at this Web site: http://www.doleta.gov/OMBCN/OMBControlNumber.cfm.

DATES: Written comments must be submitted to the office listed in the addressee section below on or before October 23, 2007.

ADDRESSES: William L. Carlson, Administrator, Office of Foreign Labor Certification, U.S. Department of Labor, Room C4312, 200 Constitution Ave., NW., Washington, DC 20210. Phone (202) 693-3010 (This is not a toll-free number.), fax (202) 693-2768, or e-mail at ETA.OFLC.Forms@dol.gov subject line: Form ETA 9089.

SUPPLEMENTARY INFORMATION:

I. Background

The information collection is required by sections 203(b)(3) and 212(a)(5)(A) of the Immigration and Nationality Act (INA) (8 U.S.C. 1153(b)(3) and 1182(a)(5)(A)). The Department of Labor (Department) and the Department of Homeland Security (DHS) have promulgated regulations to implement the INA. Specifically for this collection, Title 20 CFR 656 and Title 8 CFR 204.5 are applicable. The INA mandates the Secretary of Labor to certify that any alien seeking to enter the United States for the purpose of performing skilled or unskilled labor is not adversely affecting wages and working conditions of U.S. workers similarly employed and that there are not sufficient U.S. workers able, willing, and qualified to perform such skilled or unskilled labor. Before any employer may request any skilled or unskilled alien labor, it must submit a request for certification to the Secretary of Labor containing the elements prescribed by the INA and the CFR. The CFR requires employers to document their recruitment efforts and substantiate the reasons no U.S. workers were hired.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In order to meet its statutory responsibilities under the INA, the Department needs to extend an existing collection of information pertaining to employers seeking to apply for permanent employment certification to allow them to bring foreign labor to the United States on a permanent basis. Extensive program experience, in particular since its reengineering in 2005, has demonstrated the need for further clarification on this information collection and has shown that changes to the collection are also necessary.

In the past the respondents have been for-profit businesses, not-for-profit institutions, individuals, households, and farms. On rare occasions the respondents have been local, state, tribal governments, or the federal government.

The Secretary of Labor uses the collected information to determine if allowing an alien to enter the United States for the purpose of performing skilled or unskilled labor will adversely affect wages and working conditions of U.S. workers similarly employed and whether or not there were sufficient U.S. workers able, willing, and qualified to perform such skilled or unskilled labor at the time of the application.

Changes are being proposed to ETA Form 9089 for two reasons. The first is to provide more clarity to the user of the form, thereby obtaining more accurate information for the Department to assist in more efficient and effective adjudication of the requested benefit. The second is to implement amendments required by the Final Rule published in the Federal Register May 17, 2007: Labor Certification for the Permanent Employment of Aliens in the United States; Reducing the Incentives and Opportunities for Fraud and Abuse and Enhancing Program Integrity.

Type of Review: Revision and Extension of Currently Approved Information Collection.

Agency: Employment and Training Administration.

Title: Application for Permanent Employment Certification.

OMB Control No.: 1205-0451.

Agency Number(s): Form ETA 9089.

Recordkeeping: On occasion.

Affected Public: Businesses or other for-profits and not-for-profits, individuals or households, farms, and Federal, State, Local or Tribal Governments.

Total Respondents: 120,000.

Estimated Total Burden Hours: 342,686.

Total Burden Cost (capital/startup): 0.

Total Burden Cost (operating/maintaining): $2,500,000.

Comments submitted in response to this comment request will be summarized and/or included in the request for Office of Management and Budget approval of the information collection request; they will also become a matter of public record.

Dated: August 14, 2007.
William L. Carlson,
Administrator, Office of Foreign Labor Certification.

[FR Doc. E7-16800 Filed 8-23-07; 8:45 am]

BILLING CODE 4510-FP-P